DEPARTMENT OF THE INTERIOR

Bureau of Land Management

[LLNM006200 L99110000.EK0000 XXX L4053RV]

Notice of Proposed Action: Implementation of Helium Stewardship Act Sales and Auctions

AGENCY: Bureau of Land Management, Interior.

ACTION: Notice.

SUMMARY: The purpose of this notice is to inform the public of and request comments on the methods and procedures that the Department of the Interior, Bureau of Land Management (BLM), intends to use to implement the terms of the Helium Stewardship Act of 2013 (“the Act” or “the HSA”). Section 6(b) of the Act (“Phase B: Auction Implementation”) establishes the dates and the method of sales and auctions of Federal helium from the Federal Helium Reserve to be delivered during the period beginning on October 1, 2014.

DATES: Comments regarding the proposed helium sales and auctions must be received by the BLM on or before June 16, 2014. The BLM intends to hold the Fiscal Year (FY) 2015 sale and auction and FY 2016 one-time sale, as described in the Act and in this notice below, by August 1, 2014.

ADDRESSES: You may submit your comments in one of two ways. You may mail comments to Bureau of Land Management, Amarillo Field Office, 801 S. Fillmore, Suite 500, Amarillo, TX 79101, Attention: Helium Sale and Auction; or email them to rbjolley@blm.gov with “Helium Sale and Auction” in the subject line. Any comments regarding the proposed sale/auction will be reviewed by the BLM State Director or other authorized official of the Department of the Interior, who may take any appropriate action regarding the proposed sale/auction.

FOR FURTHER INFORMATION CONTACT: Robert Jolley, 806-356-1002. Persons who use a telecommunications device for the deaf (TDD) may call the Federal Information Relay Service (FIRS) at 1-800-877-8339. The FIRS is available 24 hours a day, 7 days a week, to leave a message for Mr. Jolley. You will receive a reply during normal business hours.

SUPPLEMENTARY INFORMATION: Background: On October 2, 2013, President Obama signed the Act. The Act ensures continued access to Federal crude helium; provides for an orderly transition to end Federal helium operations in four phases at the Cliffside Field near Amarillo, Texas, by 2021, resulting in minimal market disruption to end users; increases taxpayer returns and stimulates investment in private helium sources by selling crude helium at market-driven prices; bolsters transparency by requiring timely publication of information related to the Federal Helium Reserve; authorizes the BLM to obtain a global helium assessment that includes forecasts of demand and assessments of supply; establishes helium extraction, separation, and conservation research and development programs; and facilitates the development of a long-term strategy for helium acquisition for all Federal users. Section 6(b) of the Act requires the Department of the Interior, through the BLM Director, to offer for sale and auction annually, beginning in FY 2014, a portion of the helium reserves owned by the United States stored underground at the Cliffside Field. On March 6, 2014, the BLM conducted a scoping meeting in Amarillo, Texas, during which the agency requested comments and suggestions for conducting the helium sales and auctions required by the Act. The results of the scoping meeting and a summary of comments the BLM received can be found at http://www.blm.gov/nm/helium. The BLM considered those comments as it developed the implementation plan described in this Notice.

1.02 What Terms Do I Need To Know to Understand This Sale? Unless otherwise noted, the following definitions apply:

Allocated sale volume means that portion of the annual sale volume of the Federal Helium Reserve that will be set aside for purchase by the crude helium refiners.

Auction volume means those volumes of the Federal Helium Reserve offered for sale at auction to any person or qualified bidder under the Act.

Cliffside Field means the subterranean formation near Amarillo, Texas, which is used as a helium storage reservoir and in which the Federal Helium Reserve is stored.

Crude helium means a partially refined gas containing about 70 percent helium and 30 percent nitrogen. However, the helium concentration may vary from 50 to 95 percent.

Excess refining capacity means the reported total refining capacity of the refiner, minus the volume of refined helium delivery commitments for a particular fiscal year. The BLM will require each refiner to report excess refining capacity in advance of all Phase A and Phase B sales and Phase B auctions as a condition of those sales and auctions.

Federal Helium Pipeline means the federally owned pipeline system through which helium extracted from the Federal Helium Reserve may be transported.

Federal Helium Reserve means helium reserves owned by the United States that are stored in the Cliffside Field.

Federal Helium System means:

(A) The Federal Helium Reserve;

(B) The Cliffside Field;

(C) The Federal Helium Pipeline; and

(D) All other infrastructure owned, leased, or managed under contract by the Secretary of the Interior (Secretary) for the storage, transportation, withdrawal, enrichment, purification, or management of helium.

Federal in-kind crude helium or in-kind helium means helium purchased by private refiners who have sold or are selling to Federal users and their contractors a quantity of refined helium equivalent to the quantity of crude helium the refiner is purchasing or will purchase from the BLM under contract, under the requirements and procedures of 43 CFR part 3195. The refined helium initially supplied to a Federal user or its contractor may come from a source outside the Federal Helium Reserve.

Federal user means a Federal agency or extramural holder of one or more Federal research grants using helium.

Helium storage contract means a contract between the BLM and a private entity allowing the private entity to store crude helium in underground storage at the Cliffside Field.

HPA means the Helium Privatization Act of 1996, Public Law 104-273, 110 Stat. 3315.

HSA means the Helium Stewardship Act of 2013, Public Law 113-40, 127 Stat. 534.

Mcf means one thousand cubic feet of gas measured at standard conditions of 14.65 pounds per square inch atmosphere (psia) and 60 degrees Fahrenheit.

MMcf means one million cubic feet of gas measured at standard conditions of 14.65 psia and 60 degrees Fahrenheit.

Non-Allocated Sale means a Phase A crude helium sale, under which crude helium is sold only to non-refiners.

One-time sale means a sale of helium from amounts available in FY 2016 offered by the BLM in FY 2014 under the HSA, 50 U.S.C. 167d(b)(13).

Person means any individual, corporation, partnership, firm, association, trust, estate, public or private institution, or state or political subdivision.

Phase A means the allocation transition period prescribed in the HSA at 50 U.S.C. 167d(a).

Phase B means the auction implementation period prescribed in the HSA at 50 U.S.C. 167d(b).

Phase B auction means an auction of helium offered by the BLM during Phase B under the HSA, 50 U.S.C. 167d(b)(2).

Phase B sale means a sale of helium offered by the BLM to refiners during Phase B under the HSA, 50 U.S.C. 167d(b)(1), after completion of an auction.

Priority pipeline access means the first priority of delivery of crude helium under which the Secretary schedules and ensures the delivery of crude helium to a helium refinery through the Federal Helium System.

Production capability means the estimated or calculated physical volume of helium that can be produced from the Cliffside Field.

Qualifying domestic helium transaction means any agreement entered into or any renegotiated agreement during the preceding one-year period in the United States for the purchase or sale of at least 15,000,000 standard cubic feet of crude or pure helium to which any holder of a contract with the BLM for the acceptance, storage, delivery, or redelivery of crude helium from the Federal Helium System is a party.

Refiner means a person with the ability to take delivery of crude helium from the Federal Helium Pipeline and refine the crude helium into pure helium.

Toll or tolling means the practice of a helium refiner processing or refining another party's helium at an agreed upon price. Refiners are required by the HSA (50 U.S.C. 167d(b)(8)(B)), as a condition of sale or auction, to make excess refining capacity of helium available at commercially reasonable rates to (i) Any person prevailing in auctions under section 167d(b)(2); and (ii) Any person who has acquired crude helium from the BLM from the Federal Helium Reserve by means other than an auction under section 167d(b)(2) after the date of enactment of the HSA, including non-allocated sales.

Toller means a non-refiner that has an agreement with a refiner to process or refine helium.

Tolling agreement means an agreement between a helium refiner and another party to process or refine the other party's helium.

1.03 What is the purpose of sales and auctions? The BLM is implementing the HSA's statutory directives to sell helium from the Federal Helium Reserve to reduce the Reserve to a level of 3,000,000,000 standard cubic feet (3,000,000 Mcf) of recoverable helium (not including privately stored helium) (50 U.S.C. 167d(b)(4)) and implement Phase D: Disposal of assets (50 U.S.C. 167d(d)) by September 30, 2021.

1.04 What is the estimated volume of helium available for sale, auction and delivery in each fiscal year? The BLM has created a graphic that illustrates the gradual reduction in the volume of helium that is expected to be produced from the Federal Helium Reserve by FY 2021, according to current geological modeling. The graphic can be viewed at www.blm.gov/nm/nitec. Based on that methodology, Table 1 identifies the volumes of helium to be offered for sale as part of Phase A under the HSA. Those sales are divided into allocated sales for the refiners (total 549,000 Mcf) and non-allocated sales for the non-refiners (total 61,000 Mcf). Table 1 also identifies a substantial delivery of privately stored helium (556,600 Mcf), which was primarily the result of a delay in the initial FY 2014 offering of Federal crude helium for sale; approximately 408,000 Mcf of privately stored helium was delivered before the sale was held in January 2014. Table 2 provides the projected volume of helium in million cubic feet (MMcf) available according to current geological modeling and provides estimated annual volumes that will be offered, in accordance with Phase B of the HSA, for sale, auction and delivery during FY 2015 through FY 2021. Phase B sales are reserved for refiners, while the Phase B auction is open to all qualified bidders. Both Table 1 and Table 2 also reflect holding back 10 percent of the forecasted production capability as an engineering contingency to ensure that the BLM can meet any unanticipated emergency situations. Table 3 provides an estimate of total production capacity of the Cliffside Field broken into components (estimated sale volume and auction volume) and delivery of privately-owned helium, as well as an estimate of the total production.

Table 1—Projected Volumes for Allocated Sale, Non-Allocated Sale and Private Storage Delivery for FY 2014
Fiscal Year (FY) | Forecasted production capability (NITEC study): Mcf | 10% contingency: Mcf | In-kind sales: Mcf | Total production available for sale/ auction or delivery: Mcf | Volume of private storage delivered prior to January 2014 sale: Mcf | Allocated sale: Mcf | Non- allocated sale: Mcf | Additional private storage delivery: Mcf
FY 2014(1) |  |  |  |  |  | 360,000 | 40,000 |
FY 2014(2) | 1,494,000 | 149,400 | 170,000 | 1,174,600 | 408,000 | 189,000 | 21,000 | 156,600
Total FY 2014 |  |  |  |  |  | 549,000 | 61,000 |

Table 2—Projected Volumes for Sales, Auctions and Private Storage Delivery for FY 2015-FY 2021
Fiscal year (FY) | Forecasted production capability (NITEC study): Mcf | 10% contingency: Mcf | In-kind sales: Mcf | Total production available for sale/ auction: Mcf | 80% available for sale/ auction: Mcf | FY 2016 one-time sale (conducted in FY 2014): Mcf | Phase B sale volume: Mcf | Phase B auction volume: Mcf | 20% available for private storage delivery: Mcf
FY 2015 | 1,320,160 | 132,016 | 170,000 | 1,018,144 | 814,515 | 0 | 733,064 | 81,452 | 203,629
FY 2016 | 1,158,150 | 115,815 | 170,000 | 872,335 | 697,868 | 250,000 | 273,401 | 174,467 | 174,467
FY 2017 | 997,450 | 99,745 | 170,000 | 727,705 | 582,164 | 0 | 349,298 | 232,866 | 145,541
FY 2018 | 848,280 | 84,828 | 170,000 | 593,452 | 474,762 | 0 | 213,643 | 261,119 | 118,690
FY 2019 | 714,430 | 71,443 | 170,000 | 472,987 | 378,390 | 0 | 113,517 | 264,873 | 94,597
FY 2020 | 606,130 | 60,613 | 170,000 | 375,517 | 300,414 | 0 |  | 300,414 | 75,103
FY 2021 | 537,880 | 53,788 | 170,000 | 314,092 | 251,274 | 0 |  | 251,274 | 62,818

Table 3—Summary of Total Sales, Auctions and Delivery Through FY 2021
Total Production |  | 7,676,480
Total Production |  | 7,676,480
| Total Sales | 2,542,923
| Total Auction Volume | 1,566,464
| Total In Kind Volume | 1,360,000
| Total Engineering Contingency | 767,648
Total Pre-HSA, Privately-Owned Helium to be Delivered |  | 1,439,445

Phase B Sales and Auctions

2.01 What volume of helium will the BLM offer under a Phase B auction for FY 2015? The BLM intends to offer 81,452 Mcf for auction in July 2014 for delivery in FY 2015.

2.02 What will be the minimum Phase B auction price and minimum Phase B sales price, and how were those prices determined? We estimate the minimum Phase B auction price for FY 2015 to be $100 per Mcf based on Producer Price Index adjustments to the open market crude sales price for FY 2014 (absent a market survey). The BLM will calculate the 2015 Phase B sales price using a weighted average of the average Phase B auction price (10%) and the adjusted FY 2014 helium sales price (90%).

2.03 What volume of helium will the BLM offer under a Phase B sale for FY 2015? The FY 2015 volume of helium the BLM will offer for sale will be about 733 MMcf.

2.04 What will be the price for the FY 2015 Phase B sale and how is that price determined? The FY 2015 Phase B sales price will be calculated using a weighted average methodology as follows:

FY 2015 Phase B Sales Price = (10% × AAP) + (90% × (100+APPI × $95.00))

AAP is average auction price in dollars.

APPI is the average Production Price Index for September 2013 through March 2014.

2.05 What volume will be sold for the FY 2016 one-time sale? The BLM intends to offer 250 MMcf for the FY 2016 one-time sale held in FY 2014.

2.06 What will be the price for the FY 2016 one-time sale and how was that price determined? The price for the FY 2016 one-time sale and the methodology will be the same as the Phase B sales price for FY 2015.

2.07 When will the sales and auctions occur? The BLM intends to offer helium in FY 2014 according to the following schedule:

June 9, 2014—Federal Register Auction Notice for FY 2015 Phase B auction; and, annual request for refiners to report excess refining capacity

June 23, 2014—Excess refining capacity to be reported to the BLM ¹

¹ Section 6(b)(8)(B) of the HSA, 50 U.S.C. 167d(b)(8)(B), states: “(B) Condition.—As a condition of sale or auction to a refiner under subsection (a)(1) and paragraphs (1) and (2), effective beginning 90 days after the date of enactment of the Helium Stewardship Act of 2013, the refiner shall make excess refining capacity of helium available at commercially reasonable rates to—(i) any person prevailing in auctions under paragraph (2); and (ii) any person that has acquired crude helium from the Secretary from the Federal Helium Reserve by means other than an auction under paragraph (2) after the date of enactment of the Helium Stewardship Act of 2013, including nonallocated sales.”

June 30, 2014—FY 2015 Phase B auction held in Amarillo, Texas

July 1, 2014—FY 2015 Phase B auction results published on BLM Web site

July 3, 2014—Invitation for Offer released for FY 2015 Phase A sale and FY 2016 one-time sale

July 18, 2014—FY 2015 Phase B sale complete

July 21, 2014—FY 2015 Phase B sale results published

July 25, 2014—FY 2015 Phase B auction payments collected

July 28, 2014—FY 2016 one-time sale complete

August 1, 2014—FY 2016 one-time sale results published

September 11, 2014—FY 2016 one-time sale payments collected

September 26, 2014—FY 2015 Phase B sale payments collected

June and July dates may change depending on timing of publication of Final Federal Register Auction Notice.

2.08 What will be the Phase B auction format and who may participate? The auction will be a live auction, held in Amarillo, Texas. Anyone meeting the definition of a qualified bidder provided in Section 2.09 may participate in the auction. A pre-bid registration process will be specified in the Federal Register Auction Notice to be released to the public on June 9, 2014 (date subject to change).

2.09 Who is qualified to purchase helium at Phase B auctions? A “qualified bidder” is a person the Secretary determines is seeking to purchase helium for the person's own use, refining, or resale to users. Only qualified bidders may purchase helium at Phase B auctions. If the BLM determines that a person does not meet the requirements for a qualified bidder under the HSA, that person is not a qualified bidder for Phase B auctions, even if that person was determined to be a qualified bidder in the past.

2.10 What are the helium lot sizes that will be available for the Phase B auctions? The BLM plans to auction lots consisting of 5 MMcf and 10 MMcf. Because volumes are not always going to be divisible by 5, there will be an odd lot that will range from 5 MMcf to 10 MMcf.

2.11 How many helium lots does the BLM anticipate offering for the FY 2015 Phase B auction? The BLM anticipates auctioning 81,452 Mcf for FY 2015. That volume would be divided as follows:

(5) lots of 10 MMcf each

(5) lots of 5 MMcf each

(1) lot of 6,452 Mcf

2.12 When will helium that is purchased or won at the FY 2015 Phase B auction be available to the buyers? The volumes will be transferred to buyers beginning on October 1, 2014, assuming payment in full has been received.

2.13 What must I do to bid at auction? Detailed bidding instructions, including pre-bid registration, will be provided in the Auction Notices. The Auction Notice will contain information regarding the time and location of the auction, process for notification of winning bidders, payments, and how to make such payments.

2.14 Who will be allowed to purchase helium in the Phase B sales? Only those who are refiners as defined in section 1.02 of this notice may purchase helium in the Phase B sales.

2.15 How will the helium sold in Phase B sales be apportioned among the refiners? The apportionment to each refiner connected to the Federal Helium Pipeline will be based on its percentage share of the total refining capacity as of October 1, 2000.

2.16 What will happen if one or more refiners request an amount other than the refiner's share of what is offered during a Phase B sale? If one or more refiners request less than the refiner's allocated share, any other refiner that requested more than its share will be allowed to purchase the excess volume based on proportionate shares of remaining refining capacities. Requests by crude helium refiners that are in excess of the amount available in the Phase B sale will not be considered.

2.17 What will happen if the total amount requested by the crude helium refiners is less than the 733 MMcf offered in the FY 2015 Phase B sale? Any excess volume not sold to the refiners in the FY 2015 Phase B sale will be available in the next scheduled Phase B sale.

2.18 Do you have a hypothetical example of how a Phase B sale would be conducted? Assume 1,000 MMcf would be available for sale.

Column A: Bidder—Allocated sale | Column B: Installed refining capacity | Column C: Refiner bid volume * | Column D: Allocated volume * | Column E: Excess volume requested * | Column F: Proration percent | Column G: Excess allocated * | Column H: Total allocated *
Refiner A | 10% | 115 | 100 | 15 | 20% | 15 | 115
Refiner B | 50% | 400 | 400 | 0 | 0% | 0 | 400
Refiner C | 40% | 700 | 400 | 300 | 80% | 80 + 5 | 485
Total | 100% | 1,215 | 900 | 315 | 100% | 100 | 1,000
* All volumes in MMcf.

After the initial allocation (Column D), Refiner B has received all volumes it requested (Column C). However, 315 MMcf (Column E (Column C-Column D)) is deemed excess of the total in the first iteration of the Phase B sale and is therefore proportionally reallocated to Refiner A and Refiner C based on their remaining installed refining capacities (Column F). With the reallocation, Refiner A gets all the excess volumes it requested (Column E). After the second iteration, 5 MMcf remains unallocated and, without any other refiners, is awarded to Refiner C. Refiner C is still short by 215 MMcf. All percentages used in the calculation will be rounded to the nearest one-tenth of one percent. All volumes calculated will be rounded to the nearest 1 Mcf.

Delivery of Purchased Helium, Helium Won at Auction and Pre-HSA Helium

3.01 When will I receive helium that I own from purchase in a sale, or successful auction bid, or that I have in a pre-HSA storage account? Helium bought, won at auction, or purchased will be delivered starting October 1 of each designated fiscal year based upon a prioritization schedule established by the BLM.

3.02 How will the BLM prioritize delivery? In accordance with the HSA and existing helium storage contract language, the BLM has established the following prioritization for helium delivery:

(1) In-kind helium

(2) Phase B auctioned helium

(3) Phase A allocated/non-allocated and Phase B sold helium

(4) Pre-HSA purchased helium stored under a helium storage contract.

3.03 How will the helium delivery prioritization work for refiners? The following methodology will be used to determine each refiner's share of the available helium for delivery through the Federal Helium System. The volume available to the refiners is described by the following equation:

MPC = (IKR + IKT) + (ACR + ACT) + ALR + ULT + PHSA

MPC—Monthly Production Capacity is the capacity available from the Crude Helium Enrichment Unit (CHEU) each month.

IKR—In-Kind Refiners is the monthly amount of planned In-Kind helium sales to refiners to support Federal helium needs.

IKT—In-Kind Tollers is the monthly amount of planned In-Kind helium sales to non-refiners requiring tolling services to support Federal helium needs.

IKR and IKT will be fulfilled at 100 percent capacity.

ACR—Auction Refiners is the monthly amount of planned auction-acquired helium sales to meet refiners' planned sales.

ACT—Auction Tollers is the monthly amount of planned auction-acquired helium sales to meet non-refiners' planned sales requiring tolling services.

ACR and ACT will be fulfilled at 100 percent capacity.

ALR—Allocated Refiners is the monthly amount of planned Phase A allocated sale-and Phase B sale-acquired helium to meet refiners' planned sales. Initial delivery schedule is based on the capacity percentage for each refiner per Article 2.7 of the helium storage contract.

ULT—Unallocated Tollers is the monthly amount of planned non-allocated sale-acquired helium (sold during the Phase A non-allocated sales in FY 2014) to meet non-refiners' planned sales requiring tolling services.

ALR and ULT will be fulfilled on a best efforts basis. If total planned sales from all requestors is in excess of MPC, ALR and ULT will be prorated based on refiner/non-refiner total helium in storage.

PHSA—Pre-Helium Stewardship Act is the monthly amount of helium purchased before the HSA, remaining in storage. This helium will be delivered in proportion to each refiner's volume in storage up to 3 percent each month.

Each refiner will be allowed delivery of helium up to the prescribed amount calculated in ALR and PHSA. If a refiner receives more than allowed, the overage will be subtracted from the volume calculated to be delivered in the next calculation month. Amounts not delivered will not carry forward to the next calculation month. Refiners that provide tolling services to non-refiners for any of the non-refiners' helium will earn a 2 for 1 credit applied to the next calculation month determination of the refiner's ALR.

3.04 Do you have a hypothetical example of how the Delivery Schedule would be implemented? An example of the process detailed in section 3.03 follows:

| Planned | Refiner | Toller A | Refiner allowed | Refiner actual | Toll actual | Carry over
Refiner A:
In-Kind | 2,000 | 2,000 | 500 | 2,500 | 1,990 | 500 |
Auction | 2,500 | 2,500 | 750 | 3,250 | 2,400 | 750 |
Allocated | 30,080 | 30,080 |  | 30,080 | 25,000 |  | 2,500
Pre-HSA Stored | 1,567 | 1,567 |  | 1,567 | 1,500 |  |
Refiner B:
In-Kind | 2,000 | 2,000 |  | 2,000 | 2,100 |  |
Auction | 200 | 200 |  | 200 | 200 |  |
Allocated | 45,119 | 45,119 |  | 45,119 | 46,000 |  | (881)
Pre-HSA Stored | 1,791 | 1,791 |  | 1,791 | 1,791 |  |
Toller A:
In-kind | 500 |  |  |  |  |  |
Auction | 750 |  |  |  |  |  |
Pre-HSA Stored |  |  |  |  |  |  |

In the example, Refiner A is receiving 4,500 Mcf of in-kind and auction helium, and refining for Toller A an additional 1,250 Mcf of Toller A's in-kind and auction helium. Refiner A also has 30,080 Mcf of allocated helium purchased at Phase A or Phase B sales and a percentage of its pre-HSA stored volume of 1,567 Mcf available for delivery. As a result of the 1,250 Mcf of tolling, Refiner A will get a 2,500 Mcf credit in the next calculation month determination for allowed allocated helium delivery. Refiner B is receiving 2,200 Mcf of in-kind and auction helium. It actually received 100 Mcf more of auction helium with no penalty. Since Refiner B did not toll any helium for a non-refiner, it did not earn a subsequent tolling credit. However, Refiner B did overdraw its allowance of allocated helium by 881 Mcf. This overage will be deducted during the next calculation month. Toller A had its in-kind and auction helium refined. Not illustrated in the example is a circumstance where there is not enough monthly production capacity to meet refiner and toller planned helium delivery. When planned delivery exceeds available delivery capacity, the allocated helium delivery (after prior calculation month corrections) will be prorated based on refiner/non-refiner total helium in storage.

In-Kind Program

4.01 What is the Federal In-Kind Program? Federal helium suppliers, who have contracts to supply helium to the Federal Government (agencies, government contractors, and universities with certified Federal grant numbers), are required to buy like amounts of helium from the Federal Helium Reserve. The supplied helium may originate from sources other than the Federal Helium Reserve. Replenishment of helium volumes provided to the government typically takes about 5 months to complete; however, the helium is sold to the suppliers at a discounted rate compared to open market rate.

4.02 Who participates in the Program? Federal helium suppliers, Federal agencies and grant recipients participate in the Federal In-Kind Program.

4.03 How do I participate? You may be a participant in the Federal In-Kind Program if you are a supplier of pure helium and have entered into contracts to supply helium to the Federal Government; or you are a Federal agency requesting helium deliveries; or you are a Federal end user with a per location local volume of 200 Mcf per year and wish to participate in the In-Kind Program. Potential Federal end users/Federal grant recipients and universities are encouraged to register with the BLM at the provided Web page link: http://www.blm.gov/nm/helium.

Before including your address, phone number, email address, or other personal identifying information in your comment, you should be aware that your entire comment—including your personal identifying information—may be made publicly available at any time. While you may ask us in your comment to withhold your personal identifying information from public review, we cannot guarantee that we will be able to do so.

Authority: The Helium Stewardship Act of 2013, Public Law 113-40, codified to various sections in 50 U.S.C. 167-167q.

Jesse J. Juen,
State Director, New Mexico.

[FR Doc. 2014-11410 Filed 5-15-14; 8:45 am]

BILLING CODE 4310-FB-P